DEPARTMENT OF TRANSPORTATION

Pipeline and Hazardous Materials Safety Administration

[Docket No. PHMSA-2018-0100; Notice No. 2019-02]

Hazardous Materials: Emergency Waiver No. 12

AGENCY: Pipeline and Hazardous Materials Safety Administration (PHMSA), DOT.

ACTION: Notice of emergency waiver order.

SUMMARY: PHMSA is issuing an emergency waiver order to railroad carriers waiving certain expedited movement requirements when conducting operations within the Nebraska Severe Winter Storm, Straight-line Winds, And Flooding disaster area. Given the continuing impacts caused by the Nebraska Severe Winter Storm, Straight-line Winds, And Flooding disaster, PHMSA's Administrator has determined that regulatory relief is in the public interest and necessary to ensure the safe transportation in commerce of hazardous materials while railroad carriers conduct operations within the disaster area. This Waiver Order is effective immediately and shall remain in effect for 30 days from the date of issuance.

FOR FURTHER INFORMATION CONTACT: Adam Horsley, Deputy Assistant Chief Counsel for Hazardous Materials Safety, Pipeline and Hazardous Materials Safety Administration, telephone: (202) 366-4400.

SUPPLEMENTARY INFORMATION: In accordance with the provisions of 49 U.S.C. 5103(c), the Administrator for the Pipeline and Hazardous Materials Safety Administration (PHMSA), hereby declares that an emergency exists that warrants issuance of a Waiver of 49 CFR 174.14 for operations within the Nebraska Severe Winter Storm, Straight-line Winds, And Flooding disaster area. The Waiver is granted to railroad carriers when conducting operations within the Nebraska Severe Winter Storm, Straight-line Winds, And Flooding disaster area.

On March 21, 2019, the President issued an Emergency Declaration for Nebraska Severe Winter Storm, Straight-line Winds, And Flooding (DR-4420). This Waiver Order covers all areas identified in the declaration, as amended. Pursuant to 49 U.S.C. 5103(c), PHMSA has authority delegated by the Secretary (49 CFR 1.97(b)(3)) to waive compliance with any part of the HMR provided that the grant of the waiver is: (1) In the public interest; (2) not inconsistent with the safety of transporting hazardous materials; and (3) necessary to facilitate the safe movement of hazardous materials into, from, and within an area of a major disaster or emergency that has been declared under the Robert T. Stafford Disaster Relief and Emergency Assistance Act (42 U.S.C. 5121 et seq.).

Given the continuing impacts caused by the Nebraska Severe Winter Storm, Straight-line Winds, And Flooding disaster, PHMSA's Administrator has determined that regulatory relief is in the public interest and necessary to ensure the safe transportation in commerce of hazardous materials while railroad carriers conduct operations within the Nebraska Severe Winter Storm, Straight-line Winds, And Flooding disaster area. By execution of this Waiver Order, railroad carriers are excepted from the requirements of 49 CFR 174.14 when conducting operations within the Nebraska Severe Winter Storm, Straight-line Winds, And Flooding disaster area.

This Waiver Order is effective immediately and shall remain in effect for 30 days from the date of issuance.

Issued in Washington, DC, on March 22, 2019.
Drue Pearce,
Deputy Administrator, Pipeline and Hazardous Materials Safety Administration.

[FR Doc. 2019-08117 Filed 4-22-19; 8:45 am]

BILLING CODE 4910-60-P